DEPARTMENT OF ENERGY

Agency Information Collection Revision

AGENCY: U.S. Department of Energy.

ACTION: Notice of request for comments.

SUMMARY: The Department of Energy (DOE), pursuant to the Paperwork Reduction Act of 1995, intends to revise an information collection request with the Office of Management and Budget (OMB). The information collection requests a revision of the approval for OMB Control Number 1910-5179, titled Energy and Jobs Survey.

DATES: Comments regarding this proposed information collection must be received on or before April 27, 2026. If you anticipate any difficulty in submitting comments within that period, contact the person listed in the FOR FURTHER INFORMATION CONTACT section as soon as possible.

ADDRESSES: Written comments may be sent to Angela Dayton, U.S. Department of Energy, Office of Energy Jobs, 1000 Independence Avenue SW, Washington, DC 20585, or by email at angela.dayton@hq.doe.gov or energyjobs@hq.doe.gov.

FOR FURTHER INFORMATION CONTACT: Angela Dayton, angela.dayton@hq.doe.gov, (240) 449-0652

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5179;

(2) Information Collection Request Titled: Energy and Jobs Survey;

(3) Type of Review: Revision;

(4) Purpose: The nature of energy production, distribution, and consumption throughout the U.S. economy has dramatic impacts on job creation and economic competitiveness, but it is inadequately understood and incompletely measured by traditional labor market tools. The U.S. Energy and Employment Report collects data from relevant industries and quantifies employment in energy activities with data on workforce demographics and employer perceptions by geography. This data is used to generate an annual U.S. Energy and Employment Report as instructed by Congress in 42 U.S.C. 18841. This revision to the data collection will collect data on additional priority industries including the critical materials and data center supply chains, study the adoption of Artificial Intelligence (AI) in the energy sector, and promote technology neutrality throughout the survey.

(5) Annual Estimated Number of Respondents: 58,226;

(6) Annual Estimated Number of Total Responses: 58,226;

(7) Annual Estimated Number of Burden Hours: 13,019; and

(8) Annual Estimated Reporting and Recordkeeping Cost Burden: $652,787.

Statutory Authority: 42 U.S.C. 18841.

Signing Authority: This document of the Department of Energy was signed on February 23, 2026, by Ashley Nunes, Office of Policy, Director, pursuant to delegated authority from the Secretary of Energy. The document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 24, 2026.
Treena V. Garrett,
Federal Register Liaison Officer, U.S. Department of Energy.

[FR Doc. 2026-03862 Filed 2-25-26; 8:45 am]

BILLING CODE 6450-01-P